DEPARTMENT OF ENERGY

Federal Energy Regulatory Commission

Combined Notice of Filings #2

Take notice that the Commission received the following electric rate filings:

Docket Numbers: ER16-372-005.

Applicants: PJM Interconnection, L.L.C.

Description: Compliance filing: Amendment to Compliance Filing in Docket No. ER16-372-003 to be effective 5/15/2017.

Filed Date: 7/31/17.

Accession Number: 20170731-5118.

Comments Due: 5 p.m. ET 8/21/17.

Docket Numbers: ER17-1649-001.

Applicants: Florida Power & Light Company.

Description: Tariff Amendment: Errata to the Original Point to Point Transmission Service Agreement No. 274 to be effective 10/1/2017.

Filed Date: 7/31/17.

Accession Number: 20170731-5222.

Comments Due: 5 p.m. ET 8/21/17.

Docket Numbers: ER17-2184-000.

Applicants: New England Power Pool Participants Committee.

Description: § 205(d) Rate Filing: Aug 2017 Membership Filing to be effective 8/1/2017.

Filed Date: 7/31/17.

Accession Number: 20170731-5131.

Comments Due: 5 p.m. ET 8/21/17.

Docket Numbers: ER17-2185-000.

Applicants: Great Valley Solar 1, LLC.

Description: Initial rate filing: Great Valley Solar 1, LLC Shared Facilities Agreement to be effective 10/1/2017.

Filed Date: 7/31/17.

Accession Number: 20170731-5135

Comments Due: 5 p.m. ET 8/21/17.

Docket Numbers: ER17-2186-000.

Applicants: Madison Paper Industries.

Description: Tariff Cancellation: cancellation filing to be effective 8/1/2017.

Filed Date: 7/31/17.

Accession Number: 20170731-5136.

Comments Due: 5 p.m. ET 8/21/17.

Docket Numbers: ER17-2187-000.

Applicants: Southern California Edison Company.

Description: Tariff Cancellation: Notice of Cancellation of ETCs for Azusa, Banning & Colton to be effective 9/30/2017.

Filed Date: 7/31/17.

Accession Number: 20170731-5137.

Comments Due: 5 p.m. ET 8/21/17.

Docket Numbers: ER17-2188-000.

Applicants: Playa Solar 1, LLC.

Description: Baseline eTariff Filing: Playa Solar 1 Notice of Change in Status and Request for Notice Waiver to be effective 8/1/2017.

Filed Date: 7/31/17.

Accession Number: 20170731-5147.

Comments Due: 5 p.m. ET 8/21/17.

Docket Numbers: ER17-2189-000.

Applicants: Playa Solar 2, LLC.

Description: Baseline eTariff Filing: Playa Solar 2 Notice of Change in Status and Request for Notice Waiver to be effective 8/1/2017.

Filed Date: 7/31/17.

Accession Number: 20170731-5152.

Comments Due: 5 p.m. ET 8/21/17.

Docket Numbers: ER17-2190-000.

Applicants: Playa Solar 1, LLC.

Description: § 205(d) Rate Filing: Playa 1 Refiling of SFA Under New Tariff Identifier—Notice Waiver Requested to be effective 8/1/2017.

Filed Date: 7/31/17.

Accession Number: 20170731-5161.

Comments Due: 5 p.m. ET 8/21/17.

Docket Numbers: ER17-2191-000.

Applicants: PJM Interconnection, L.L.C.

Description: § 205(d) Rate Filing: 2nd Quarter 2017 Updates to OA-RAA Member Lists to be effective 6/30/2017.

Filed Date: 7/31/17.

Accession Number: 20170731-5166.

Comments Due: 5 p.m. ET 8/21/17.

Docket Numbers: ER17-2192-000.

Applicants: Playa Solar 1, LLC.

Description: Tariff Cancellation: Complete Cancellation of Playa Solar 1 MBR Program Tariff Identifier to be effective 8/1/2017.

Filed Date: 7/31/17.

Accession Number: 20170731-5169.

Comments Due: 5 p.m. ET 8/21/17.

Docket Numbers: ER17-2193-000.

Applicants: Great Valley Solar 1, LLC.

Description: Initial rate filing: Great Valley Solar 1, LLC LGIA Co-Tenancy Agreement to be effective 10/1/2017.

Filed Date: 7/31/17.

Accession Number: 20170731-5170.

Comments Due: 5 p.m. ET 8/21/17.

Docket Numbers: ER17-2194-000.

Applicants: Playa Solar 2, LLC.

Description: § 205(d) Rate Filing: Playa 2 Refiling of SFA Under New Tariff Identifier—Notice Waiver Request to be effective 8/1/2017.

Filed Date: 7/31/17.

Accession Number: 20170731-5171.

Comments Due: 5 p.m. ET 8/21/17.

Docket Numbers: ER17-2195-000.

Applicants: PJM Interconnection, L.L.C.

Description: § 205(d) Rate Filing: Service Agreement Nos. 4518 and 4756, Queue No. W4-005 Phase I and II to be effective 6/30/2017.

Filed Date: 7/31/17.

Accession Number: 20170731-5172.

Comments Due: 5 p.m. ET 8/21/17.

Docket Numbers: ER17-2196-000.

Applicants: Playa Solar 2, LLC.

Description: Tariff Cancellation: Complete Cancellation of Playa Solar 2 MBR Program Tariff Identifier to be effective 8/1/2017.

Filed Date: 7/31/17.

Accession Number: 20170731-5174.

Comments Due: 5 p.m. ET 8/21/17.

Docket Numbers: ER17-2197-000.

Applicants: Nevada Power Company.

Description: § 205(d) Rate Filing: Rate Schedule No. 155 NPC/CRC Agreement to be effective 10/1/2017.

Filed Date: 7/31/17.

Accession Number: 20170731-5176.

Comments Due: 5 p.m. ET 8/21/17.

Docket Numbers: ER17-2198-000.

Applicants: Central Maine Power Company.

Description: § 205(d) Rate Filing: First Amendment to Bucksport Generation LLC Interconnection Agreement to be effective 8/1/2017.

Filed Date: 7/31/17.

Accession Number: 20170731-5194.

Comments Due: 5 p.m. ET 8/21/17.

Docket Numbers: ER17-2199-000.

Applicants: Southwest Power Pool, Inc.

Description: § 205(d) Rate Filing: 3215R3 People's Electric Cooperative NITSA NOA to be effective 7/1/2017.

Filed Date: 7/31/17.

Accession Number: 20170731-5223.

Comments Due: 5 p.m. ET 8/21/17.

Docket Numbers: ER17-2200-000.

Applicants: PJM Interconnection, L.L.C.

Description: § 205(d) Rate Filing: Revisions to OATT Attachments O and P re: Solar Generation Meteorological Data to be effective 9/29/2017.

Filed Date: 7/31/17.

Accession Number: 20170731-5240.

Comments Due: 5 p.m. ET 8/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 31, 2017.
Nathaniel J. Davis, Sr.,
Deputy Secretary.

[FR Doc. 2017-16458 Filed 8-3-17; 8:45 am]

BILLING CODE 6717-01-P